DEPARTMENT OF THE INTERIOR

Bureau of Land Management

[LLNM920000 18X L51040000.RB0000]

Notice of Proposed Reinstatement of Terminated Oil and Gas Lease NMNM111949, New Mexico

AGENCY: Bureau of Land Management, Interior.

ACTION: Notice of reinstatement.

SUMMARY: In accordance with the Mineral Leasing Act of 1920, Cimarex Energy Company timely filed a petition for reinstatement of competitive oil and gas lease NMNM 11949, Eddy County, New Mexico. The lessee paid the required rentals accruing from July 1, 2014, the date of termination. No leases were issued that affect these lands. The Bureau of Land Management proposes to reinstate this lease.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee agrees to new lease terms for rentals and royalties of $10 per acre, or fraction thereof, per year, and 16-2/3 percent, respectively. The lessee agrees to additional or amended stipulations. The lessee paid the $500 administration fee for the reinstatement of the lease and $159 cost for publishing this Notice.

The lessee met the requirements for reinstatement of the lease per Sec. 31(d) and (e) of the Mineral Leasing Act of 1920. The BLM is proposing to reinstate the lease, effective the date of termination subject to the:

• Original term and conditions of the lease;

• Additional and amended stipulations;

• Increased rental of $10 per acre;

• Increased royalty of 16-2/3 percent; and

• $159 cost of publishing this Notice.

Authority: 43 CFR 3108.2-3

Julieann Serrano,
Supervisory, Land Law Examiner.

[FR Doc. 2018-02349 Filed 2-5-18; 8:45 am]

BILLING CODE 4310-FB-P